DEPARTMENT OF THE INTERIOR

Fish and Wildlife Service

[Docket No. FWS-HQ-NWRS-2022-0113; FF09R23000/XXX/FXRS420309ARPA0; OMB Control Number 1018-New]

Agency Information Collection Activities; U.S. Fish and Wildlife Service Animal Use Committee

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before November 15, 2022.

ADDRESSES: Send your comments on the information collection request (ICR) by one of the following methods (please reference OMB Control No. 1018-IACUC in the subject line of your comment):

• Internet (preferred): https://www.regulations.gov. Follow the instructions for submitting comments on Docket No. FWS-HQ-NWRS-2022-0113.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Pursuant to the Animal Welfare Act of 1966 (AWA; 7 U.S.C. 2131 et seq.), as amended, and the U.S. Government Principles for Utilization of Vertebrate Animals Used in Testing, Research, and Training (1995), any entity or institution that uses vertebrate animals for research, testing, or training purposes must have an oversight committee to evaluate all aspects of that institution's animal care and use. The National Wildlife Refuge System Administration Act of 1966 (16 U.S.C. 668dd-668ee), as amended, the Service's Code of Scientific Integrity and Scholarly Conduct (212 FW 7; 2011), and the Service's Inventory and Monitoring Program Policy (701 FW 2; 2014) ensure that Service staff adhere to accepted practices for the treatment of wildlife used in science, conservation efforts, and population management. To ensure compliance, the Service's Animal Welfare Program is standing up an Animal Use Committee (also known as an Institutional Animal Care and Use Committee, or IACUC), which will provide guidance to staff to promote animal welfare, human and animal safety, and scientific integrity in the form of protocol review.

The Service's Animal Use Committee (AUC), organizationally aligned under the National Wildlife Refuge System, will provide the experience and expertise necessary to assess and approve all activities involving vertebrate animals on national wildlife refuges (NWRs). The Service's AUC serves as the primary oversight mechanism for animal welfare by reviewing and approving proposed activities related to the care and use of both free-ranging and captive wildlife. In order to comply with the Animal Welfare Act, at minimum, the Service's AUC membership will consist of a chair, an administrator, an attending veterinarian, Service biologist(s) representing various specialties, and a non-Service-affiliated member representing society's expectations for animal welfare. Ad hoc species-specific expert advisors will be requested to help with protocol review as needed. All projects conducted on NWRs by Service staff and non-FWS entities that involve wildlife use must be reviewed and approved by the Service's AUC prior to their commencement. Other branches of the Service are welcome to submit protocols for review, but it will not be required. The majority of people requesting AUC review are anticipated to be Service staff, but other Federal employees or researchers from universities or private institutions conducting projects on NWRs will also require AUC review.

The Service proposes to utilize a new platform, Key Solutions eProtocol IACUC Software Module for Animal Subjects (eProtocol IACUC), to implement the AUC. The eProtocol IACUC will help ensure that Service staff and anyone else using wildlife on a NWR employ field methods that are consistent with current best practices that minimize discomfort, distress, and pain by facilitating effective and efficient communication between the AUC and submitters and assisting with committee administration management. Additionally, the Service and the National Park Service (NPS) will jointly use the eProtocol IACUC platform to facilitate collaboration and coordination with the NPS IACUC. The shared, but compartmentalized, Service/NPS platform will allow the two bureaus to maintain separate committees and protocol submissions but share data and move protocols and technical experts between the committees, as necessary.

The eProtocol IACUC will collect the following information from submitters:

• Wildlife Protocol Review Form—Information collected in this form includes a description of the proposed project, including objectives and methodology, rationale for the use of animals, a summary of literature cited to show novelty of the work, any procedures or treatments to be performed (e.g., sample collection, marking or tagging methods, etc.), a description of all capture devices utilized, pharmaceuticals to be administered, anesthetic protocol description, surgical protocol description, and a description of the selected humane dispatch technique.

• Field Study Form—Information collected in this form includes a description of the proposed project, including objectives and methodology, and rationale describing why the project qualifies as a field study.

• Amendment Form—Information collected includes a description of proposed new capture devices, treatments, procedures, pharmaceuticals, pharmaceutical administration route, new personnel, etc. that were not included on the Wildlife Protocol Review Form.

• Wildlife Protocol Annual Review Form—Information collected includes the number of target, non-target, and opportunistic animals used, treatments or procedures performed, and number of injuries or deaths.

• Field Study Annual Review Form—Information collected includes the number of target, non-target, and opportunistic animals observed, non-invasive and non-harmful treatments or procedures performed, and a description of any adverse events.

• Non-FWS AUC/IACUC Approval Form—Information requested includes a copy of the non-FWS AUC/IACUC general submission form, copies of all communications with the non-FWS AUC/IACUC, and notification of approval by the non-FWS IACUC.

• Adverse Event Form—Information collected in this form includes the number and species of animals injured and/or dead, timeframe for the observed injures and/or mortalities, a description of injuries or illness, and any other pertinent information (e.g., documented trap malfunction, excessive environmental temperatures, evidence of predation, signs of illness, etc.)

• Animal Welfare Violation Reporting Form—Information includes a description of action(s) or behavior(s) that violate the AWA; the U.S. Government Principles of Utilization of Vertebrate Animals Used in Testing, Research, and Training; or the National Wildlife Refuge System Administration Act of 1966, 212 FW 7.

Records are required to be kept for the duration of the animal activity and for at least 3 years after the conclusion of the project. Wildlife Protocol Review Forms submitted to the AUC that are not granted approval shall be kept for at least 3 years. Pertinent training history for anyone working on the project will be collected in the Wildlife Protocol Review Form.

Title of Collection: U.S. Fish and Wildlife Service Animal Use Committee.

OMB Control Number: 1018-New.

Form Number: None.

Type of Review: New.

Respondents/Affected Public: Private sector (including nonprofits, NGOs, and universities) and State/local/Tribal governments.

Respondent's Obligation: Required to obtain or retain a benefit.

Frequency of Collection: On occasion for project submissions, adverse event reporting, and violation reporting, and annually for annual report.

Total Estimated Annual Nonhour Burden Cost: None.

Requirement | Average number of annual respondents | Average number of responses each | Average number of annual responses | Average completion time per response (hours) | Estimated annual burden hours *
Wildlife Protocol Review Form
Private Sector | 25 | 1 | 25 | 1 | 25
Government | 100 | 2 | 200 | 4 | 800
Field Study Form
Private Sector | 10 | 1 | 10 | .5 | 5
Government | 50 | 2 | 100 | .5 | 50
Amendment Form
Private Sector | 10 | 1 | 10 | .5 | 5
Government | 50 | 1 | 50 | .5 | 25
Wildlife Protocol Annual Review Form
Private Sector | 25 | 1 | 25 | 1 | 25
Government | 100 | 1 | 100 | 1 | 100
Field Study Annual Review Form
Private Sector | 10 | 1 | 10 | .5 | 5
Government | 50 | 1 | 50 | .5 | 25
Non-FWS AUC/IACUC Review Form
Private Sector | 50 | 1 | 50 | .5 | 25
Government | 25 | 1 | 25 | .5 | 13
Adverse Event Form
Private Sector | 20 | 1 | 20 | .5 | 10
Government | 40 | 1 | 40 | .5 | 20
Animal Welfare Violation Reporting Form
Private Sector | 3 | 1 | 3 | .5 | 2
Government | 5 | 1 | 5 | .5 | 3
Totals: | 573 |  | 723 |  | 1,138
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-20046 Filed 9-15-22; 8:45 am]

BILLING CODE 4333-15-P